DEPARTMENT OF HOMELAND SECURITY

[Docket No. CISA-2023-0016]

Agency Information Collection Activities: Technical Assistance Request and Evaluation

AGENCY: Cybersecurity and Infrastructure Security Agency (CISA), Department of Homeland Security (DHS).

ACTION: 30-day notice and request for comments.

SUMMARY: The Emergency Communications Division (ECD) within Cybersecurity and Infrastructure Security Agency (CISA) will submit the following information collection request (ICR) to the Office of Management and Budget (OMB) for review and clearance. CISA previously published this information collection request (ICR) in the Federal Register on June 6, 2023 for a 60-day public comment period. No comments were received by CISA. This is a revision and reinstatement of the existing collection. The purpose of this notice is to allow an additional 30-days for public comments.

DATES: Comments are encouraged and will be accepted until October 27, 2023.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Kendall Carpenter, 202.744.1580, Kendall.Carpenter@cisa.dhs.gov.

SUPPLEMENTARY INFORMATION: The Emergency Communications Division, formed under title XVIII of the Homeland Security Act of 2002, 6 U.S.C. 571 et seq., as amended, provides emergency communications-related technical assistance at no charge to State, regional, local, and tribal government officials. To receive this technical assistance, stakeholders must submit a request form identifying their priorities. For ECD to assess the value of the services it provides through technical assistance; an evaluation form is also requested of those receiving technical assistance.

ECD uses the Technical Assistance Request Form (DHS Form 9043) to identify the number and type of technical assistance services needed by the State, Territory, local, and Tribal agencies. This information enables ECD to plan and align resources accordingly. ECD considers each request based on the priority indicated by the State, as well as the anticipated impact of the service offering on the implementation of the Statewide Communications Interoperability Plan (SCIP) and the applicability to National Emergency Communications Plan (NECP).

The evaluation form (DHS Form 9042) is completed by stakeholders at the completion of ECD technical assistance services and enables ECD to assess the quality of technical assistance services provided and, in a holistic fashion, measure the value of the services. The information collected through these evaluations is used by ECD for continued improvement planning.

Approximately 100 percent of request and evaluation forms are submitted electronically by logging into the portal at https://www.cisa.cisa.gov/safecom/ictapscip-resources.

From the website, users are able to select the appropriate form, either the Technical Assistance Requests (DHS Form 9043) and/or the TA Evaluation forms (DHS Form 9042), to complete as a fillable PDF. Each form is then submitted by email to either TARequest@cisa.dhs.gov or TAevaluations@cisa.dhs.gov, respectively.

The changes to the collection since the previous OMB approval include: Updating the web address, decreasing the estimated number of responses, decreasing the burden time, and increasing the cost estimates. This is a renewal of the existing information collection that expired on 7/31/2023. There are no substantial changes to the current approval. TA services by category type (NAME) have been added or removed throughout the form lifecycle.

Analysis

Agency: Cybersecurity and Infrastructure Security Agency (CISA), Department of Homeland Security.

Title of Collection: Technical Assistance Request and Evaluation.

OMB Number: 1670-0023.

Frequency: Annually.

Affected Public: State, local, Tribal, and Territorial governments.

Number of Respondents: 175.

Estimated Time per Respondent: 0.5 Hours.

Total Burden Hours: 50 Hours.

Total Burden Cost (capital/startup): $0.

Total Burden Cost (operating/maintaining): $0.

Total Recordkeeping Burden: $0.

Total Annual Burden Cost (operating/maintaining): $2,372.50.

Robert J. Costello,
Chief Information Officer, Department of Homeland Security, Cybersecurity and Infrastructure Security Agency.

[FR Doc. 2023-21067 Filed 9-26-23; 8:45 am]

BILLING CODE 9110-9P-P